DEPARTMENT OF COMMERCE

National Oceanic and Atmospheric Administration

RIN 0648-XD401

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS (Assistant Regional Administrator), has made a preliminary determination that two separate exempted fishing permit applications contain all of the required information and warrant further consideration. The exempted fishing permits would facilitate compensation fishing under the Monkfish Research Set-Aside Program by exempting vessels from monkfish days-at-sea possession limits. The compensation fishing is in support of two 2014/2015 Monkfish Research Set-Aside projects.

Regulations under the Magnuson-Stevens Fishery Conservation and Management Act require publication of this notification to provide interested parties the opportunity to comment on applications for proposed exempted fishing permits.

DATES: Comments must be received on or before August 27, 2014.

ADDRESSES: You may submit written comments by any of the following methods:

• Email: nero.efp@noaa.gov. Include in the subject line “Comments on UNE and SMAST Monkfish RSA EFPs.”

• Mail: John K. Bullard, Regional Administrator, NMFS, Greater Atlantic Regional Fisheries Office, 55 Great Republic Drive, Gloucester, MA 01930. Mark the outside of the envelope “Comments on UNE and SMAST monkfish RSA EFPs.”

FOR FURTHER INFORMATION CONTACT: Brett Alger, Fishery Management Specialist, 978-675-2153.

SUPPLEMENTARY INFORMATION: The Northeast Fisheries Science Center has awarded grants to the University of New England (UNE) and the University of Massachusetts, Dartmouth, School for Marine Science and Technology (SMAST), under the 2014 and 2015 Monkfish Research Set-Aside (RSA) Program. UNE and SMAST have submitted exempted fishing permit (EFP) applications requesting an exemption from monkfish possession limits for vessels operatiing under a monkfish RSA day-at-sea (DAS) to facilitate monkfish RSA compensation fishing.

Monkfish EFPs that waive possession limits have been routinely approved since 2007 to increase operational efficiency and to optimize research funds generated from the Monkfish RSA Program. To ensure that the amount of monkfish harvested by vessels operating under the EFPs is similar to the amount of monkfish that was anticipated to be harvested under the 500 RSA DAS set-aside by the New England and Mid-Atlantic Fishery Management Councils, we have associated an amount of monkfish equal to twice the possession limit of Permit Category A and C vessels fishing in the Southern Fishery Management Area (SFMA) of the monkfish fishery with each RSA DAS. Under the 2014/2015 Monkfish RSA Program, each monkfish RSA DAS equates to 3,200 lb (1,452 kg) of whole monkfish. This is considered a reasonable approximation because it is reflective of how the standard monkfish commercial fishery operates. It is likely that RSA grant recipients would optimize their RSA DAS award by utilizing vessels that have this possession limit.

UNE submitted a complete application for an EFP on June 3, 2014. The primary goal of their study is to investigate the immediate and short-term discard mortality rates of winter skates that are captured in sink gillnets in the targeted monkfish fishery. The EFP would exempt vessels from monkfish DAS possession limits in either of the monkfish management areas, in order to conduct monkfish compensation fishing through May 2016. Fishing activity would otherwise be conducted under normal monkfish commercial fishing practices. The vessels would use standard commercial gear and land monkfish for sale. UNE has been awarded 607 RSA DAS: 359 RSA DAS in 2014 and 248 RSA DAS in 2015. If approved, participating vessels operating under the 2014 EFP could use up to 359 DAS, or catch up to 1,148,800 lb (521,087 kg) of whole monkfish, and under the 2015 EFP, vessels could use up to 248 RSA DAS, or catch up to 793,600 lb (359,971 kg) of whole monkfish.

SMAST submitted a complete application for an EFP on June 30, 2014. The primary goal of their study is to investigate large-scale movement patterns of monkfish using data storage tags and to validate monkfish aging. The EFP would exempt up to 42 vessels from the monkfish possession limits in either of the monkfish management areas, in order to conduct monkfish compensation fishing through May 2016. Fishing activity would otherwise be conducted under normal monkfish commercial fishing practices. The vessels would use standard commercial gear and land monkfish for sale. SMAST has been awarded 393 RSA DAS: 141 RSA DAS in 2014 and 252 RSA DAS in 2015. If approved, participating vessels operating under the 2014 EFP could use up to 141 DAS, or catch up to 451,200 lb (204,661 kg) of whole monkfish, and under the 2015 EFP, vessels could use up to 252 RSA DAS, or catch up to 806,400 lb (365,777 kg) of whole monkfish.

Fishing under either EFP would stop if either the DAS are all used, or the associated pounds are caught, whichever occurs first. While these exemption requests are for both 2014 and 2015, the 2015 EFPs would not be issued until the start of the 2015 fishing year.

If approved, either applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: August 6, 2014.
Emily H. Menashes,
Acting Director, Office of Sustainable Fisheries, National Marine Fisheries Service.

[FR Doc. 2014-18962 Filed 8-11-14; 8:45 am]

BILLING CODE 3510-22-P